DEPARTMENT OF DEFENSE

Office of the Secretary

Charter Renewal of Department of Defense Federal Advisory Committees—National Security Education Board

AGENCY: Department of Defense (DoD).

ACTION: Charter renewal of Federal Advisory Committee.

SUMMARY: The DoD is publishing this notice to announce that it is renewing the charter for the National Security Education Board (NSEB).

FOR FURTHER INFORMATION CONTACT: Jim Freeman, DoD Advisory Committee Management Officer, 703-692-5952.

SUPPLEMENTARY INFORMATION: The NSEB's charter is being renewed in accordance with the Federal Advisory Committee Act (FACA) (5 U.S.C., Appendix) and 41 CFR 102-3.50(d). The charter and contact information for the NSEB's Designated Federal Officer (DFO) are found at https://www.facadatabase.gov/FACA/apex/FACAPublicAgencyNavigation.

Pursuant to 50 U.S.C. 1902(a)(3), the NSEB shall consult on the National Security Scholarship, Fellowships, and Grants Program as described in more detail in 50 U.S.C. Ch. 37.

Pursuant to 50 U.S.C. 1903(b), the NSEB shall be composed of the following individuals or the representatives of such individuals:

1. The Secretary of Defense, who shall serve as the Chair of the NSEB.

2. The Secretary of Education.

3. The Secretary of State.

4. The Secretary of Commerce.

5. The Secretary of Homeland Security.

6. The Secretary of Energy.

7. The Director of National Intelligence.

8. The Chair of the National Endowment for the Humanities.

9. Six individuals appointed by the President, who shall be experts in the fields of international, language, area, and counterproliferation studies education and who may not be officers or employees of the Federal Government.

Members of the NSEB appointed by the President shall be appointed for a period specified by the President at the time of their appointment, but not to exceed four years.

NSEB members who are not full-time or permanent part-time Federal civilian officers or employees, or active duty members of the Uniformed Services, shall be appointed as experts or consultants pursuant to 5 U.S.C. 3109 to serve as special government employee members. NSEB members who are full-time or permanent part-time Federal civilian officers or employees, or active duty members of the Uniformed Services, shall be appointed pursuant to 41 CFR 102-3.130(a) to serve as regular government employee members. Pursuant to 50 U.S.C. 1903(c), individuals appointed by the President shall receive no compensation for service on the NSEB. All members shall receive reimbursement of official NSEB-related travel and per diem.

The public or interested organizations may submit written statements to the NSEB about the NSEB's mission and functions. Written statements may be submitted at any time or in response to the stated agenda of planned meeting of the NSEB. All written statements shall be submitted to the DFO for the NSEB, and this individual will ensure that the written statements are provided to the membership for their consideration.

Dated: April 19, 2022.
Aaron T. Siegel,
Alternate OSD Federal Register Liaison Officer, Department of Defense.

[FR Doc. 2022-08639 Filed 4-21-22; 8:45 am]

BILLING CODE 5001-06-P